DEPARTMENT OF LABOR

Employment and Training Administration

TA-W-81,263, Chartis Global Services, Inc., a Subsidiary of Chartis, Inc., Regional Processing Organization, Regional Service Center, Houston, TX; TA-W-81,263A, Chartis Global Services, Inc., a Subsidiary of Chartis, Inc., Regional Processing Organization, Regional Service Center, Dallas, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 13, 2012, applicable to workers of Chartis Global Services, Inc., Regional Service Center, a subsidiary of Chartis, Inc., Houston, Texas. The Department's Notice of determination was published in the Federal Register on February 28, 2012 (77 FR 13352). The subject workers are engaged in activities related to the supply of underwriting services. Specifically, these services include reservation, policy issuance, fulfillment, mid-term servicing and file management.

During the course of the investigation of another petition, the Department reviewed the certification applicable to workers and former workers of the subject firm. The review revealed that the Regional Service Center is part of the Regional Processing Organization and that workers and former workers at an affiliated facility in Dallas, Texas operated in conjunction with the Houston, Texas facility and were similarly affected by the workers' firm's shift to a foreign country the supply of services like or directly competitive with the insurance writing support services supplied by the Regional Service Center.

In order to properly identify the worker group and to capture the entirety of the affected worker group, the Department is amending the certification (TA-W-81,263) to add “Regional Processing Organization” and to add workers at an affiliated location in Dallas, Texas (TA-W-81,263A). The amended notice applicable to TA-W-81,263 is hereby issued as follows:

All workers of Chartis Global Services, Inc., a subsidiary of Chartis, Inc., Regional Processing Organization, Regional Service Center, Houston, Texas (TA-W-81,263) and Chartis Global Services, Inc., a subsidiary of Chartis, Inc., Regional Processing Organization, Regional Service Center, Dallas, Texas (TA-W-81,263A), who became totally or partially separated from employment on or after February 13, 2012 through February 13, 2014, and all workers in the group threatened with total or partial separation from employment on the date of certification through two years from the date of certification, are eligible to apply for adjustment assistance under Chapter 2 of Title II of the Trade Act of 1974, as amended.

Signed in Washington, DC, this 29th day of June 2012.
Del Min Amy Chen,
Certifying Officer, Office of Trade Adjustment Assistance.

[FR Doc. 2012-17375 Filed 7-16-12; 8:45 am]

BILLING CODE 4510-FN-P